DEPARTMENT OF HOMELAND SECURITY

Coast Guard

[USCG-2005-20035]

National Offshore Safety Advisory Committee; Charter Renewal

AGENCY: Coast Guard, DHS.

ACTION: Notice of charter renewal.

SUMMARY: The Secretary of Homeland Security has renewed the charter for the National Offshore Safety Advisory Committee (NOSAC) for 22 months from January 17, 2005, until October 18, 2007. NOSAC is a Federal advisory committee created under the Federal Advisory Committee Act, 5 U.S.C. App. 2 (Pub. L. 92-463, 86 Stat. 770, as amended). It advises the Coast Guard on safety, security, and environmental protection issues relating to the offshore mineral and energy industries.

DATES: NOSAC charter renewed from January 17, 2005, until October 18, 2007.

ADDRESSES: You may request a copy of the charter by writing to Commandant (G-MSO), U.S. Coast Guard, 2100 Second Street SW., Washington, DC 20593-0001; by calling 202-267-0214; or by faxing 202-267-4570. This notice and the charter are available on the Internet at http://dms.dot.gov.

FOR FURTHER INFORMATION CONTACT: Commander John Cushing, Executive Director of NOSAC, or Mr. Jim Magill, Assistant to the Executive Director, telephone 202-267-1082, fax 202-267-4570.

Dated: December 12, 2004.
Joseph J. Angelo,
Director of Standards, Marine Safety, Security and Environmental Protection.

[FR Doc. 05-1055 Filed 1-19-05; 8:45 am]

BILLING CODE 4910-15-P